DEPARTMENT OF THE TREASURY

Internal Revenue Service

Proposed Collection; Comment Request for Form 1023

AGENCY: Internal Revenue Service (IRS), Treasury.

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the IRS is soliciting comments concerning Form 1023, Application for Recognition of Exemption Under Section 501(c)(3) of the Internal Revenue Code.

DATES: Comments must be received by November 29, 2010 to be assured of consideration. The Department of the Treasury is piloting the collaborative tool, http://www.PRAComment.Gov, to increase public participation and collaboration for the Paperwork Reduction Act information collection activities. In addition to continuing to collect comments on IRS Form 1023, the Department is partnering with the Internal Revenue Service (IRS) to expand the site to include five additional information collection activities:

1. OMB Number: 1545-0057.

Form Number: Form 1024.

Abstract: Organizations seeking exemption from Federal Income tax under Internal Revenue Code section 501(a) as an organization described in most paragraphs of section 501(c) must use Form 1024 to apply for exemption. The information collected is used to determine whether the organization qualifies for tax-exempt status.

Current Actions: There are no changes being made to the form at this time.

Affected Public: Not-for-profit institutions.

Estimated Number of Respondents: 9,692.

Estimated Time per Response: 30 hours.

Estimated Total Annual Burden Hours: 291,542.

2. OMB Number: 1545-0099.

Form Number: Form 1065.

Abstract: IRC section 6031 requires partnerships to file returns that show gross income items, allowable deductions, partners' names, addresses, and distribution shares, and other information. This information is used to verify correct reporting of partnership items and for general statistics.

Current Actions: There are no changes being made to the form at this time. A previous request for comments (75 FR 42831), was made in the Federal Register on July, 22, 2010.

Type of Review: Extension of a currently approved collection.

Affected Public: Businesses and other for-profit institutions.

Estimated Number of Respondents: 2,376,800.

Estimated Time per Response: 100 hours.

Estimated Total Annual Burden Hours: 721,761,123.

3. OMB Number: 1545-0901.

Form Number: Form 1098.

Abstract: Form 1098 is used to report $600 or more of mortgage interest received from an individual in the course of the mortgagor's trade or business.

Current Actions: There are no changes being made to the form at this time. A previous request for comments (75 FR 53737), was made in the Federal Register on September 1, 2010.

Type of Review: Extension of a currently approved collection.

Affected Public: Individuals or households.

Estimated Number of Respondents: 66,989,155.

Estimated Time per Response: 7 minutes.

Estimated Total Annual Burden Hours: 8,038,699.

4. OMB Number: 1545-0150.

Form Number: Form 2848.

Abstract: Form 2848 is used to authorize someone to act for the respondent in tax matters. It grants all powers that the taxpayer has except signing a return and cashing refund checks. Data is used to identify representatives and to ensure that confidential information is not divulged to unauthorized persons. Also used to input representative on CAF (Central Authorization File).

Current Actions: There are no changes being made to the form at this time. A previous request for comments (75 FR 53021), was made in the Federal Register on August 30, 2010.

Type of Review: Extension of a currently approved collection.

Affected Public: Individuals or households.

Estimated Number of Respondents: 533,333.

Estimated Time per Response: 30 minutes.

Estimated Total Annual Burden Hours: 928,583.

5. OMB Number: 1545-1629.

Form Number: Form 8867.

Abstract: Form 8867 helps preparers meet the due diligence requirements of Code section 6695(g), which was added by section 1085(a)(2) of the Taxpayer Relief Act of 1997. Paid preparers of Federal income tax returns or claims for refund involving the earned income credit (EIC) must meet the due diligence requirements in determining if the taxpayer is eligible for the EIC and the amount of the credit. Failure to do so could result in a $100 penalty for each failure. Completion of Form 8867 is one of the due diligency requirements.

Type of Review: Extension of a currently approved collection.

Affected Public: Individuals or households.

Estimated Number of Respondents: 8,368,447.

Estimated Time per Response: 1.79 hours.

Estimated Total Annual Burden Hours: 14,979,521.

The collaboration tool will maintain the official comments in which the Internal Revenue Service will use to determine potential changes to the form and/or to the estimated burden and costs associated with the collection. The Department believes the public comments received through the collaboration tool will reduce the paperwork burden on the public for Form 1023.

ADDRESSES: Submit comments by one of the following methods:

• http://www.PRAComment.gov.

• Gerald J. Shields, Internal Revenue Service, Room 6129, 1111 Constitution Avenue, NW., Washington, DC 20224.

FOR FURTHER INFORMATION CONTACT: Requests for additional information or copies of the form and instructions should be directed to Gerald Shields at Internal Revenue Service, Room 6129, 1111 Constitution Avenue, NW., Washington, DC 20224, or at (202) 927-4374, or through the Internet at Gerald.J.Shields@irs.gov.

SUPPLEMENTARY INFORMATION: Title: Application for Recognition of Exemption Under Section 501(c)(3) of the Internal Revenue Code.

The following paragraph applies to all of the collections of information covered by this notice:

An agency may not conduct or sponsor, and a person is not required to respond to, a collection of information unless the collection of information displays a valid OMB control number. Books or records relating to a collection of information must be retained as long as their contents may become material in the administration of any internal revenue law. Generally, tax returns and tax return information are confidential, as required by 26 U.S.C. 6103.

Request for Comments: Comments submitted in response to this notice will be summarized and/or included in the request for OMB approval. All comments will become a matter of public record.

Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Approved: September 22, 2010.
Gerald J. Shields,
IRS Reports Clearance Officer.

[FR Doc. 2010-24503 Filed 9-29-10; 8:45 am]

BILLING CODE 4830-01-P